DEPARTMENT OF HEALTH AND HUMAN SERVICES

National Institutes of Health

Submission for OMB Review; Comment Request; California Health Interview Survey 2007

Summary: Under the provisions of Section 3507(a)(1)(D) of the Paperwork Reduction Act of 1995, the National Cancer Institute (NCI), the National Institutes of Health (NIH) has submitted to the Office of Management and Budget (OMB) a request to review and approve the information collection listed below. This proposed information collection was previously published in the Federal Register on Sept. 11, 2006, p. 53456 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed collection

Title: California Health Interview Survey 2007.

Type of Information Collection Request: NEW.

Need and use of Information Collection: The NCI has sponsored three Cancer Control Modules in the California Health Interview Survey (CHIS), and will be sponsoring a fourth to be administered in 2007. Other federal government agencies have co-sponsored previous cycles of the survey.

The CHIS is a telephone survey designed to provide population-based, standardized health-related data to assess California's progress in meeting Healthy People 2010 objectives for the nation and the state. The CHIS samples designed to provide statisticically reliable estimates statewide, for California counties, and for California's ethnically and racially diverse population. Initiated by the UCLA Center for Health Policy Research, the California Department of Health Services, and the California Public Health Institute, the survey is funded by a number of public and private sources. It was first administered in 2001 to 55,428 adults, 5,801 adolescents, and 12,802 children; subsequently in 2003 to 42,043 adults, 4,010 adolescents, and 8,502 children; and in 2005 to 43,020 adults, 4,029 adolescents, and 11,358 children. These individuals are a representative sample of California's non-institutionalized population living in households.

CHIS 2007, is the fourth bi-annual survey, is planned for administration to 48,000 adult Californians and 4,000 adolescents. The cancer control module, which is similar to that administered in CHIS 2001, CHIS 2003, and CHIS 2005, will allow NCI and other Federal agencies to examine various health- and disease-related topics. Examples include patterns and (when fielded in multiple years) trends in breast cancer screening, diet, physical activity, obesity, tobacco control and other disease risk factors, disease outcomes, discrimination, and neighborhood cohesion.

Because California is the most populous and the most racially and ethnically diverse state in the nation, the CHIS 2007 sample will yield adequate numbers of respondents in key ethnic and racial groups, including African Americans, Latinos, Asians, and American Indian/Alaska Natives. The Latino group will include large numbers of respondents in the Mexican, Central American, South American, and other Latino subgroups; the Asian group will include large numbers of respondents in the Chinese, Filipino, Japanese, Vietnamese, and Korean subgroups. NCI and other Federal agencies will use the California and National Health Interview Survey (CHIS, NHIS) data to conduct comparative analyses and better estimate cancer risk factors and screening among racial/ethnic minority populations. The CHIS sample size also permits NCI and other federal agencies to obtain estimates for ethnic subdomains of the population for which NHIS has insufficient numbers for analysis.

Frequency of Response: One-time.

Affected public: Individuals or households.

Types of Respondents: U.S. adults (persons 18 years of age and older) and adolescents (persons of age 12-17 for whom the adult respondent is the parent or legal guardian of the adolescent residing in the household).

The annual reporting burden is as follows:

Estimated Number of Respondents: 48,000 Adults and 4,000 Adolescents.

Estimated Number of Response per Respondent: 1.

Average Burden Hours per Response: .1202 for Adults and .0134 for Adolescents.

Estimated Total Burden Hours Requested: 5,778 for Adults and 53.8 for Adolescents. The annualized cost to respondents is estimated at $98,629.451. There are no Capital Costs to report. There are no Operating or Maintenance Costs to report.

Table A.—Annualized Burden Estimates for CHIS 2007 Data Collection
Type of respondent | Estimated number of respondents | Estimated number or responses per respondent | Average burden hour per response | Estimated total annual burden hours
Adult Pilot | 150 | 1 | .1200 | 18.0
Adult Survey | 48,000 | 1 | .1200 | 5760.0
Adolescent Pilot | 15 | 1 | .0134 | .2
Adolescent Survey | 4,000 | 1 | .0134 | 53.6
Total |  |  |  | 5831.8

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Dr. Nancy Breen, Ph.D., Project Officer, Applied Research Program, Division of Cancer Control and Population Sciences NCI, NIH, EPN 4005, 6130 Executive Boulevard MSC 7344. Bethesda, Maryland 20852-7344, or call the non-toll-free number 301-696-8500 or E-mail your request, including your address to breenn@mail.nih.gov.

Comments Due Date: Comments regarding this information collection are best assured of having their full effect if received within 30 days of the date of this publication.

Dated: January 23, 2007.
Rachelle Ragland-Greene,
NCI Project Clearance Liaison, National Institutes of Health.

[FR Doc. 07-406 Filed 1-30-07; 8:45 am]

BILLING CODE 4140-01-P